ENVIRONMENTAL PROTECTION AGENCY

[FRL-7164-3]

Arsenic Treatment Demonstrations

AGENCY: Environmental Protection Agency.

ACTION: Notice.

SUMMARY: The U.S. Environmental Protection Agency (U.S. EPA) plans to conduct a demonstration program on the treatment (reduction and/or removal) of arsenic in drinking water. The U.S. EPA recently promulgated a standard that limits arsenic concentrations in drinking water to 10 ug/l. Through this demonstration program the U.S. EPA intends to identify and evaluate the ability of commercially available technologies and engineering or other approaches to cost effectively meet the new standard in small water systems (<10,000 customers). Through this notice, the U.S. EPA is inviting the public at large, governmental and regulatory agencies, public health agencies, and drinking water utilities to identify small water utilities that may be interested in hosting a demonstration at their facility. Such utilities should be those which will require treatment to comply with the new arsenic standard. This notice does not constitute a procurement.

DATES: Please submit the requested information by June 28, 2002.

ADDRESSES: Details on participation in this study can be found at http://www.epa.gov/ORD/NRMRL/arsenic/.

FOR FURTHER INFORMATION CONTACT: Robert Thurnau, National Risk Management Research Laboratory, U.S. Environmental Protection Agency, 26 West Martin Luther King Drive, Cincinnati, Ohio, 45268, telephone (513) 569-7504.

Dated: February 15, 2002.
E. Timothy Oppelt,
Director, National Risk Management Research Laboratory.

[FR Doc. 02-7493 Filed 3-27-02; 8:45 am]

BILLING CODE 6560-50-P